DEPARTMENT OF HEALTH AND HUMAN SERVICES

Administration for Children and Families

Office of Community Services

AGENCY: Office of Community Services, ACF, DHHS.

ACTION: Notice of cancellation of standing program announcement for the Assets for Independence (AFI) Program (HHS-2005-ACF-OCS-EI-0053).

CFDA#: 93.602.

Legislative Authority: The Assets for Independence Act (Title IV of the Community Opportunities, Accountability, and Training and Educational Act of 1998, as amended, Pub. L. 105-285, 42 U.S.C. 604 note).

SUMMARY: This notice cancels the standing program announcement for the Assets for Independence (AFI) Program (HHS-2005-ACF-OCS-EI-0053) that was published in the Federal Register on February 2, 2005.

A new standing program announcement for the AFI program will be published at the Administration for Children and Families' Grant Opportunities Web page at http://www.acf.hhs.gov/grants/index.html. The new standing program announcement and application package will also be available at www.grants.gov. Interested parties should register with www.grants.gov to receive e-mail alerts announcing publication, application due dates, and application requirements.

FOR FURTHER INFORMATION CONTACT: James Gatz, Program Manager, Assets for Independence Program, Office of Community Services, Administration for Children and Families, 370 L'Enfant Promenade, SW., Washington, DC 20047. Telephone: (202) 401-5284. E-mail: AFIProgram@acf.hhs.gov.

Dated: December 3, 2007.
Josephine B. Robinson,
Director, Office of Community Services.

[FR Doc. E7-23731 Filed 12-5-07; 8:45 am]

BILLING CODE 4184-01-P